DEPARTMENT OF AGRICULTURE

Request for Extension and Revision of a Currently Approved Information Collection; Correction

AGENCY: Agricultural Marketing Service, USDA.

ACTION: Notice and request for comment; correction.

SUMMARY: This document contains a correction of a 60 day notice and request for comment for a currently approved information collection that was published in the April 9, 2018, Federal Register. The notice uses OMB control number 0580-0022, which has since been changed to OMB control number 0581-0306 due to the realignment of offices authorized by the Secretary's memorandum dated November 14, 2017. This Secretary's memorandum eliminated the Grain Inspection, Packers and Stockyard Administration as a standalone agency it is now organized under the Agricultural Marketing Service. This document corrects the notice by updating the OMB control number.

DATES: The document published on April 9, 2018 (83 FR 15125), is corrected as of May 30, 2018.

FOR FURTHER INFORMATION CONTACT: Candace A. Hildreth, Compliance Officer, at (202) 720-0203.

SUPPLEMENTARY INFORMATION: In FR Doc. 2018-07211 appearing in the Federal Register of Monday, April 9, 2018 [83 FR 15125], the following correction is made:

On page 15126, in the first column, the OMB Number should state: 0581-0306.

Dated: May 24, 2018.
Greg Ibach,
Under Secretary, Marketing and Regulatory Programs.

[FR Doc. 2018-11533 Filed 5-29-18; 8:45 am]

BILLING CODE 3410-02-P